AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before August 2, 2010.

ADDRESSES: Send comments via e-mail at ssegal@usaid.goggl@usaid.gov or mail comments to: Sabrina Segal, Office of the General Counsel (A/GC) United States Agency for International Development, Ronald Reagan Building, 1300 Pennsylvania Avenue, NW., Washington, DC 20523 (202) 712-5409.

FOR FURTHER INFORMATION CONTACT: Beverly Johnson, Bureau for Management, Office of Administrative Services, Information and Records Division, U.S. Agency for International Development, Room 2.07-106, RRB, Washington, DC 20523. (202) 712-1365 or via e-mail bjohnson@usaid.gov.

SUPPLEMENTARY INFORMATION:

OMB No.: OMB 0412-New.

Form No.: N/A.

Title: USAID's Implementation and Procurement Reform Survey.

Type of Review: New information collection.

Purpose: The U.S. Agency for International Development (USAID) is requesting authorization to conduct an electronic survey as one of the steps in USAID's Implementation and Procurement Reform Working Group process. We would like to ask some of our implementing partners from the non-profit and contracting community to indicate their level of interaction and reactions to the financial data currently available on USAID's Web site. This will be the first step towards concrete improvements to the accessibility, availability, and ease of use of information.

Annual Reporting Burden:

Respondents: 100.

Total annual responses: 100.

Total annual hours requested: 25 hours.

Dated: May 20, 2010.
Robert Miranda,
Director, Office of Administrative Services, Bureau for Management.

[FR Doc. 2010-12865 Filed 6-1-10; 8:45 am]

BILLING CODE 6116-01-M